DEPARTMENT OF AGRICULTURE

Cooperative State Research, Education, and Extension Service

Solicitation of Input From Stakeholders Regarding the Healthy Urban Food Enterprise Development Center Program

AGENCY: Cooperative State Research, Education, and Extension Service, USDA.

ACTION: Request for stakeholder input.

SUMMARY: The Cooperative State Research, Education, and Extension Service (CSREES) is implementing a new competitive grants program called the Healthy Urban Food Enterprise Development Center Program (the Center) authorized by 7 U.S.C. 2034(h). By this notice, CSREES is soliciting public comments and stakeholder input from persons who use or conduct research, extension or education, training, outreach and technical assistance regarding the development of competitive Requests for Applications (RFAs) and implementing regulations.

DATES: All written comments must be received by April 2, 2009.

ADDRESSES: You may submit comments, identified by CSREES-2008-0005, by any of the following methods:

Federal eRulemaking Portal: http://www.regulations.gov. Follow the instructions for submitting comments.

E-mail: ltuckermanty@csrees.usda.gov. Include CSREES-2008-0005 in the subject line of the message.

Fax: (202) 401-1782.

Mail: Paper, disk or CD-ROM submissions should be submitted to: Liz Tuckermanty; Competitive Program (CP) Unit; Cooperative State Research, Education, and Extension Service; U.S. Department of Agriculture; Mail Stop 2201; 1400 Independence Avenue, SW.; Washington, DC 20250-2201. Hand Delivery/Courier: Liz Tuckermanty; Competitive Programs (CP) Unit; Cooperative State Research, Education, and Extension Service; U.S. Department of Agriculture; Room 2340; Waterfront Centre; 800 9th Street, SW.; Washington, DC 20024.

Instructions: All submissions received must include the title “The Center” and CSREES-2008-0005. All comments received will be posted to http://www.regulations.gov, including any personal information provided.

FOR FURTHER INFORMATION CONTACT: Dr. Liz Tuckermanty, (202) 205-0241 (phone), (202) 401-1782 (fax), or ltuckermanty@csrees.usda.gov.

SUPPLEMENTARY INFORMATION:

Background and Purpose

The purpose of the Center is to increase access to healthy affordable foods to underserved communities. The Center will also collect, develop, and provide technical assistance and information to small and medium-sized agricultural producers, food wholesalers and retailers, schools, and other individuals and entities regarding best practices and the availability of assistance for aggregating, storing, processing, and marketing locally produced agricultural products and increasing the availability of such products in underserved communities.

Through a grant to a non-profit entity, sub-grants will be used to carry out feasibility studies to establish businesses to increase access to healthy affordable foods, including locally produced agricultural products, to underserved communities and establish and otherwise assist enterprises that process, distribute, aggregate, store, and market healthy affordable foods.

Sub-grants will be awarded to nonprofit organizations; cooperatives, commercial entities, agricultural producers, academic institutions, individuals and other entities as the Secretary of Agriculture may designate.

In FY 2009, it is anticipated that one million dollars in funding will be available and priority will be given to applications that:

1. Benefit underserved communities (as defined by 7 U.S.C. § 2034); and

2. Develop market opportunities for small and mid-sized farm and ranch operations.

Reporting requirement for funded projects include a report to the Secretary describing the activities carried out in the preceding fiscal year, including, but not limited to, a description of technical assistance provided by the Center; the total number and a description of the sub-grants provided; a complete listing of cases in which the activities of the Center have resulted in increased access to healthy, affordable foods, such as fresh fruit and vegetables, particularly for school-aged children and individuals in low income communities; and a determination of whether the activities identified are sustained during the years following the initial provision of technical assistance and sub-grants.

Additional Supplementary Information

It is anticipated that the competitive RFA will request applications within 60 days of issue. Proposals will be accepted through Grants.gov. All proposals meeting requirements of the RFA will be peer reviewed in a CSREES competitive process with one single award for approximately 1 million dollars (less administrative costs). It is anticipated that this will be a continuation award with the potential for three years of funding. A continuation is an award instrument by which the CSREES agrees to support a specified level of effort for a predetermined period of time with a statement of intention to provide additional support at a future date, provided that performance has been satisfactory, appropriations are available for this purpose, and continued support would be in the best interest for the Federal government and the public.

Implementation Plans

CSREES plans to consider stakeholder input received from written comments in developing competitive RFAs and implementing regulations for this program. CSREES anticipates releasing a RFA for fiscal year 2009 funds by April 2009.

Done at Washington, DC, this 25th day of February 2009.
Colien Hefferan,
Administrator, Cooperative State Research, Education, and Extension Service.

[FR Doc. E9-4384 Filed 3-2-09; 8:45 am]

BILLING CODE 3410-22-P